DEPARTMENT OF COMMERCE

International Trade Administration

[A-580-841]

Structural Steel Beams From Korea: Extension of Time Limit for Preliminary Results of Antidumping Duty Administrative Review

AGENCY: Import Administration, International Trade Administration, Department of Commerce.

ACTION: Notice of extension of time limit for the preliminary results of antidumping duty administrative review.

SUMMARY: The Department of Commerce (“the Department”) is extending the time limit for the preliminary results of the antidumping duty administrative review of structural steel beams (“SSB”) from Korea.

EFFECTIVE DATE: March 31, 2004.

FOR FURTHER INFORMATION CONTACT: Aishe Allen, AD/CVD Enforcement Group III, Office 9, Import Administration, International Trade Administration, U.S. Department of Commerce, 14th Street and Constitution Avenue, NW., Washington, DC 20230; telephone: (202) 482-0172.

Background

On August 1, 2003, the Department published a notice of opportunity to request an administrative review of the antidumping duty order on SSB from Korea. See Antidumping or Countervailing Duty Order, Finding, or Suspended Investigation; Opportunity to Request Administrative Review, 68 FR 45218 (August 1, 2003). On August 29, 2003, petitioners ¹ requested that the Department conduct an administrative review of Dongkuk Steel Mill Co., Ltd. (“DSM”) and INI Steel Company (“INI”), which are Korean producers of subject merchandise. Also, on August 29, 2003, DSM requested that the Department conduct an administrative review of their sales of subject merchandise during the period of review (“POR”). On September 30, 2003, the Department published a notice of initiation of a review of SSB from Korea covering the period August 1, 2001 through July 31, 2002. See Initiation of Antidumping and Countervailing Duty Administrative Reviews and Requests for Revocation in Part, 68 FR 56262 (September 30, 2003). The Department's preliminary results are currently due on May 2, 2004.

¹ Petitioners are Nucor Corporation, Nucor Yamato Steel Co., and TXI-Chaparral Steel Co.

Extension of Time Limit for Preliminary Results

Section 751(a)(3)(A) of the Tariff Act of 1930, as amended (“the Act”), and section 351.213(h)(2) of the Department's regulations, state that if it is not practicable to complete the review within the time specified, the administering authority may extend the 245-day period to issue its preliminary results by up to 120 days. Completion of the preliminary results of this review within the 245-day period is not practicable because the review involves affiliation issues, and a large number of transactions for each company (i.e., DSM and INI). Additionally, the Department is investigating sales and cost for both companies which require the Department to gather and analyze a significant amount of information pertaining to each company's sales practices, manufacturing costs and corporate relationships.

Therefore, in accordance with section 751(a)(3)(A) of the Act, and section 351.213(h)(2) of the Department's regulations, the Department is extending the time period for issuing the preliminary results of review by 120 days until August 30, 2004. The final results continue to be due 120 days after the publication of the preliminary results.

This notice is issued and published in accordance with section 751(a)(3)(A) of the Act, and section 351.213(h)(2) of the Department's regulations.

Dated: March 25, 2004.
Joseph A. Spetrini,
Deputy Assistant Secretary for Import Administration, Group III.

[FR Doc. 04-7223 Filed 3-30-04; 8:45 am]

BILLING CODE 3510-DS-P